DEPARTMENT OF TRANSPORTATION

Federal Aviation Administration

14 CFR Part 39

[Docket No. FAA-2016-3701; Directorate Identifier 2015-NM-015-AD]

RIN 2120-AA64

Airworthiness Directives; Airbus Airplanes

AGENCY: Federal Aviation Administration (FAA), DOT.

ACTION: Notice of proposed rulemaking (NPRM).

SUMMARY: We propose to supersede Airworthiness Directive (AD) 2013-25-08, for all Airbus Model A330-200, -200 Freighter, and -300 series airplanes; and Model A340-200 and -300 series airplanes. AD 2013-25-08 currently requires a repetitive inspection program on certain check valves in the hydraulic systems that includes, among other things, inspections for lock wire presence and integrity, traces of seepage or black deposits, proper torque, alignment of the check valve and manifold, installation of new lock wire, and corrective actions if needed. Since we issued AD 2013-25-08, Airbus has developed an improved check valve. This proposed AD would add airplanes to the applicability, and require modifying the green, blue and yellow high pressure hydraulic manifolds by replacing certain check valves with improved check valves, which would terminate the repetitive inspections required by this proposed AD. We are proposing this AD to detect and correct hydraulic check valve loosening; loosened valves could result in hydraulic leaks, possibly leading to the loss of all three hydraulic systems and consequent loss of control of the airplane.

DATES: We must receive comments on this proposed AD by April 11, 2016.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this NPRM, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-3701; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Comments Invited

We invite you to send any written relevant data, views, or arguments about this proposed AD. Send your comments to an address listed under the ADDRESSES section. Include “Docket No. FAA-2016-3701; Directorate Identifier 2015-NM-015-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On November 26, 2013, we issued AD 2013-25-08, Amendment 39-17704 (78 FR 78694, December 27, 2013) (“AD 2013-25-08”). AD 2013-25-08 requires actions intended to address an unsafe condition on all Airbus Model A330-200 and -300 series airplanes; and Model A340-200 and -300 series airplanes.

Since we issued AD 2013-25-08, which superseded AD 2009-24-09 Amendment 39-16068 (74 FR 62208, November 27, 2009), the European Aviation Safety Agency (EASA), which is the Technical Agent for the Member States of the European Union, has issued EASA Airworthiness Directive 2015-0009, dated January 16, 2015 (referred to after this as the Mandatory Continuing Airworthiness Information, or “the MCAI”), to correct an unsafe condition. The MCAI states:

An A330 operator experienced a Yellow hydraulic circuit low level due to a loose check valve, Part Number (P/N) CAR401. During the inspection on the other two hydraulic systems, the other three check valves P/N CAR401 were also found to be loose with their lock wire broken in two instances. Airbus A340 aeroplanes are also equipped with P/N CAR401 high pressure manifold check valves.

Additional cases of P/N CAR401 check valve loosening have been reported on aeroplanes having accumulated more than 1,000 flight cycles (FC). The check valve fitted on the Yellow hydraulic system is more affected, due to additional system cycles induced by cargo door operation.

This condition, if not detected and corrected, could result in hydraulic leaks, possibly leading to the loss of all three hydraulic systems and consequent loss of control of the aeroplane.

To address this unsafe condition, EASA issued Emergency AD 2009-0223-E (http://ad.easa.europa.eu/blob/easa_ad_2009_0223E_superseded.pdf/EAD_2009-0223-E_1) [which corresponds to FAA AD 2009-24-09, Amendment 39-16068 (74 FR 62208, November 27, 2009)] to require an inspection programme to detect any check valve loosening and, if necessary, to apply the applicable corrective actions.

EASA AD 2010-0145 (http://ad.easa.europa.eu/blob/easa_ad_2010_0145_Superseded.pdf/AD_2010-0145_1), which superseded EASA EAD 2009-0223-E retaining its requirements, was issued to expand the applicability to the newly certified models A330-223F and A330-243F.

Prompted by further reported in-service events of check valve P/N CAR401 loosening before reaching the threshold of 700 FC, EASA AD 2011-0139 (http://ad.easa.europa.eu/blob/easa_ad_2011_0139_superseded.pdf/AD_2011-0139_1), which superseded EASA AD 2010-0145, retaining its requirements, was issued to:

—extend the requirement to identify the P/N CAR401 check valves to all aeroplanes, and

—reduce the inspection threshold for aeroplanes fitted with check valve P/N CAR401, either installed in production through Airbus modification 54491, or installed in service through Airbus Service Bulletin (SB) A330-29-3101 or Airbus SB A340-29-4078.

EASA AD 2012-0070 (http://ad.easa.europa.eu/blob/easa_ad_2012_0070_Correction_superseded.pdf/AD_2012-0070_1), which superseded EASA AD 2011-0139, retaining its requirements, was issued to require an increased torque value of the check valve tightening and High Pressure (HP) manifold re-identification.

Since EASA AD 2012-0070 was issued, additional in-service events have been reported on aeroplanes fitted with check valves on which the increased torque value had been applied. Based on those events, it has been concluded that the action to re-torque the check valves with an increased value is not a satisfactory terminating action for addressing the issue of those check valves.

To address that, EASA issued AD 2012-0244, which partially retained the requirements of EASA AD 2012-0070, which was superseded. Additionally, for aeroplanes equipped with P/N CAR401 on which the increased torque value had been applied, EASA AD 2012-0244 required repetitive inspections of the check valves and HP manifolds. Finally, EASA AD 2012-0244 also required application of a lower torque value when a check valve P/N CAR401 is installed on an aeroplane.

Note: The reporting and the torque value increase requirements for check valves P/N CAR401 of EASA AD 2012-0070 were no longer part of EASA AD 2012-0244.

EASA AD was revised to clarify which actions are required for P/N CAR401 check valves, depending on applied (or not) torque value.

Since EASA AD 2012-0244R1 (http://ad.easa.europa.eu/blob/easa_ad_2012_0244_R1_superseded.pdf/AD_2012-0244R1_1) was issued, Airbus developed an improved check valve P/N CAR402, which is embodied in production through Airbus modification 203972, and in service through associated Airbus SB A330-29-3125, or Airbus SB A340-29-4096, as applicable to aeroplane type. In addition, these SBs provide instructions about the torque value (between 230 and 250 Nm) and re-identification of HP manifolds after check valve P/N CAR402 installation.

For the reasons described above, this [EASA] AD retains the requirements of EASA AD 2012-0244R1, which is superseded, and requires the installation of check valves P/N CAR402 as terminating action to the repetitive inspections [and adds airplanes to the applicability].

You may examine the MCAI in the AD docket on the Internet at http://www.regulations.gov by searching for and locating Docket No. FAA-2016-3701.

Related Service Information Under 1 CFR Part 51

Airbus has issued Service Bulletin A330-29-3125, Revision 01, including Appendixes 01 and 02, dated July 30, 2015; and Service Bulletin A340-29-4096, Revision 01, including Appendixes 01 and 02, dated July 30, 2015. This service information describes procedures for modifying the green, blue, and yellow high pressure hydraulic manifolds by replacing each check valve having part number (P/N) CAR401 with an improved check valve having P/N CAR402. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Explanation of a Certain Alternative Method of Compliance (AMOC)

Paragraph (t)(1)(iii) of this proposed AD states that AMOC ANM-116-14-429 is not approved as an AMOC for the corresponding provisions of this AD. This AMOC defines a terminating action when Airbus Modification 203972 is introduced in production or when the Airbus Service Bulletin A330-29-3125, dated August 8, 2014, is embodied in service. This proposed AD will exclude from the applicability airplanes with Airbus Modification 203972 and will mandate actions in accordance with Airbus Service Bulletin A330-29-3125, Revision 01, including Appendixes 01 and 02, dated July 30, 2015.

Costs of Compliance

We estimate that this proposed AD affects 88 airplanes of U.S. registry.

The actions required by AD 2013-25-08, and retained in this proposed AD take about 10 work-hours per product, at an average labor rate of $85 per work-hour. Based on these figures, the estimated cost of the actions that are required by AD 2013-25-08 is $850 per product.

We also estimate that it would take about 32 work-hours per product to comply with the basic requirements of this proposed AD. The average labor rate is $85 per work-hour. Based on these figures, we estimate the cost of this proposed AD on U.S. operators to be $239,360, or $2,720 per product.

We have received no definitive data that would enable us to provide cost estimates for the on-condition actions specified in this proposed AD. We have no way of determining the number of aircraft that might need these actions.

According to the manufacturer, some of the costs of this proposed AD may be covered under warranty, thereby reducing the cost impact on affected individuals. We do not control warranty coverage for affected individuals. As a result, we have included all available costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2013-25-08, Amendment 39-17704 (78 FR 78694, December 27, 2013), and adding the following new AD:

Airbus: Docket No. FAA-2016-3701; Directorate Identifier 2015-NM-015-AD.

(a) Comments Due Date

We must receive comments by April 11, 2016.

(b) Affected ADs

This AD replaces AD 2013-25-08, Amendment 39-17704 (78 FR 78694, December 27, 2013).

(c) Applicability

This AD applies to Airbus airplanes, certificated in any category, as identified in paragraphs (c)(1) and (c)(2) of this AD.

(1) Model A330-201, -202, -203, -223, -223F, -243, -243F, -301, -302, -303, -321, -322, -323, -341, -342, and -343 airplanes; all manufacturer serial numbers except those on which Airbus modification 203972 has been embodied in production.

(2) Model A340-211, -212, -213, -311, -312, and -313 airplanes; all manufacturer serial numbers.

(d) Subject

Air Transport Association (ATA) of America Code 29, Hydraulic power.

(e) Reason

This AD was prompted by multiple reports of hydraulic line check valves loosening. We are issuing this AD to detect and correct hydraulic check valve loosening, which could result in hydraulic leaks, possibly leading to the loss of all three hydraulic systems and consequent loss of control of the airplane.

(f) Compliance

Comply with this AD within the compliance times specified, unless already done.

(g) Retained Inspections, With No Changes

This paragraph restates the requirements of paragraph (g) of AD 2013-25-08, Amendment 39-17704 (78 FR 78694, December 27, 2013), with no changes. Except for Model A330-223F and A330-243F airplanes: Do the actions required by paragraphs (g)(1) and (g)(2) of this AD.

(1) For airplanes that do not have Airbus Modification 54491 embodied in production, or Airbus Service Bulletin A330-29-3101 or Airbus Service Bulletin A340-29-4078 embodied in service: Within 100 flight cycles or 28 days after December 14, 2009 (the effective date of AD 2009-24-09, Amendment 39-16068 (74 FR 62208, November 27, 2009)), whichever occurs first, inspect the check valves on the blue, green, and yellow hydraulic systems to identify their part numbers (P/Ns), in accordance with the instructions of Airbus All Operators Telex (AOT) A330-29A3111, Revision 1, dated October 8, 2009 (for Model A330-200 and -300 series airplanes); or AOT A340-29A4086, Revision 1, dated October 8, 2009 (for Model A340-200 and -300 series airplanes). Accomplishment of the inspection required by paragraph (h) of this AD terminates the requirements of this paragraph.

(i) If check valves having P/N CAR401 are installed on all three hydraulic systems, before further flight, do the actions specified in paragraph (g)(2)(i) of this AD. After accomplishing the actions required by paragraph (g)(2)(i) of this AD, do the actions specified in paragraphs (g)(2)(ii) and (g)(2)(iii) of this AD at the applicable compliance times specified in those paragraphs. Accomplishment of the inspection required by paragraph (i) of this AD terminates the requirements of this paragraph.

(ii) If check valves having P/N CAR401 are not installed on all three hydraulic systems, no further action is required by this paragraph until any check valve having P/N CAR400 is replaced with a check valve having P/N CAR401. If any check valve having P/N CAR400 is replaced by a check valve having P/N CAR401, before further flight, do the inspection specified in paragraph (g)(1) of this AD to determine if all three hydraulic systems are equipped with check valves having P/N CAR401. Accomplishment of the inspection required by paragraph (h) of this AD terminates the requirements of this paragraph.

(2) For airplanes on which Airbus Modification 54491 was embodied in production, or Airbus Service Bulletin A330-29-3101; or Airbus Service Bulletin A340-29-4078 was embodied in service, do the actions specified in paragraphs (g)(2)(i), (g)(2)(ii), and (g)(2)(iii) of this AD.

(i) Except as required by paragraph (g)(1)(i) of this AD, at the applicable times specified in paragraphs (g)(2)(i)(A) and (g)(2)(i)(B) of this AD, as applicable: Do the inspection program (detailed inspection of the lock wire for presence and integrity, a detailed inspection for traces of seepage or black deposits, and an inspection for proper torque) on yellow and blue high pressure manifolds, install new lock wires, and do all applicable corrective actions, in accordance with the instructions of paragraph 4.1.1 of Airbus AOT A330-29A3111, Revision 1, dated October 8, 2009 (for Model A330-200 and -300 series airplanes); or AOT A340-29A4086, Revision 1, dated October 8, 2009 (for Airbus Model A340-200 and -300 series airplanes). Do all applicable corrective actions before further flight. Accomplishment of the inspection required by paragraph (h)(1) of this AD terminates the requirements of this paragraph.

(A) For airplanes on which Airbus Modification 54491 has been embodied in production: At the later of the times specified in paragraphs (g)(2)(i)(A)(1) and (g)(2)(i)(A)(2) of this AD.

(1) Before the accumulation of 1,000 total flight cycles since first flight but no earlier than the accumulation of 700 total flight cycles since first flight.

(2) Within 100 flight cycles or 28 days after December 14, 2009 (the effective date of AD 2009-24-09, Amendment 39-16068 (74 FR 62208, November 27, 2009)), whichever occurs first.

(B) For airplanes on which Airbus Service Bulletin A330-29-3101 or A340-29-4078 was embodied in service: At the later of the times specified in paragraphs (g)(2)(i)(B)(1) and (g)(2)(i)(B)(2) of this AD.

(1) Within 1,000 flight cycles since the embodiment of Airbus Service Bulletin A330-29-3101 or A340-29-4078 but no earlier than 700 flight cycles after the embodiment of Airbus Service Bulletin A330-29-3101 or A340-29-4078.

(2) Within 100 flight cycles or 28 days after December 14, 2009 (the effective date of AD 2009-24-09, Amendment 39-16068 (74 FR 62208, November 27, 2009)), whichever occurs first.

(ii) Within 900 flight hours after accomplishment of paragraph (g)(2)(i) of this AD, do the inspection program (detailed inspection of the lock wire for presence and integrity, a detailed inspection for traces of seepage or black deposits, and an inspection for proper torque) and install a new lock wire on the green high pressure manifold; and do an inspection (detailed inspection for traces of seepage or black deposits, and detailed inspection to determine alignment of the check valve and manifold) on the yellow and blue high pressure manifolds, and do all applicable corrective actions; in accordance with the instructions of paragraph 4.1.2 of Airbus AOT A330-29A3111, Revision 1, dated October 8, 2009 (for Model A330-200 and -300 series airplanes); or AOT A340-29A4086, Revision 1, dated October 8, 2009 (for Model A340-200 and -300 series airplanes). Do all applicable corrective actions before further flight. Accomplishment of the inspection program required by paragraph (i) of this AD terminates the requirements of this paragraph.

(iii) Within 900 flight hours after accomplishment of paragraph (g)(2)(ii) of this AD, and thereafter at intervals not to exceed 900 flight hours, do the inspection program (detailed inspection for traces of seepage or black deposits, and detailed inspection to determine alignment of the check valve and manifold) on the green, yellow, and blue high pressure manifolds, and do all applicable corrective actions, in accordance with the instructions of paragraph 4.1.3 of Airbus AOT A330-29A3111, Revision 1, dated October 8, 2009 (for Model A330-200 and -300 series airplanes); or AOT A340-29A4086, Revision 1, dated October 8, 2009 (for Model A340-200 and -300 series airplanes). Do all applicable corrective actions before further flight. Accomplishment of the inspection program required by paragraph (i) of this AD terminates the requirements of this paragraph.

(h) Retained Inspection, With No Changes

This paragraph restates the requirements of paragraph (h) of AD 2013-25-08, Amendment 39-17704 (78 FR 78694, December 27, 2013, with no changes. For airplanes equipped with check valves having P/N CAR400; and for airplanes equipped with check valves having P/N CAR401, except for airplanes on which Airbus Modification 201384 has been embodied during production, or on which Airbus Service Bulletin A330-29-3119 (for Model A330-200, -200F, and -300 series airplanes) or Airbus Service Bulletin A340-29-4091 (for Model A340-200 and -300 series airplanes) has been embodied in service: Within 900 flight hours after January 31, 2014 (the effective date of AD 2013-25-08, Amendment 39-17704 (78 FR 78694, December 27, 2013)), inspect the check valves on the blue, green, and yellow hydraulic systems to identify their part numbers, in accordance with the Accomplishment Instructions of Airbus Service Bulletin A330-29-3111, Revision 02, dated June 23, 2011 (for Model A330-200, -200F and -300 series airplanes); or Airbus Service Bulletin A340-29-4086, Revision 02, dated June 23, 2011 (for Model A340-200 and -300 series airplanes). Accomplishment of the actions required by this paragraph terminates the requirements specified in paragraphs (g)(1) and (g)(1)(ii) of this AD.

(1) If check valves having P/N CAR401 are installed on all three hydraulic systems: Before further flight, do the inspection program (detailed inspection for red mark presence and alignment integrity of the check valve and manifold, a detailed inspection for traces of seepage or black deposits, and an inspection for proper torque) on yellow and blue high pressure manifolds, and do all applicable corrective actions, in accordance with the Accomplishment Instructions of Airbus Service Bulletin A330-29-3111, Revision 02, dated June 23, 2011 (for Model A330-200, -200F, and -300 series airplanes); or Airbus Service Bulletin A340-29-4086, Revision 02, dated June 23, 2011 (for Model A340-200 and -300 series airplanes). Accomplishment of the actions required by this paragraph terminates the requirements specified in paragraph (g)(2)(i) of this AD.

(2) If check valves having P/N CAR401 are not installed on all three hydraulic systems, no further action is required by this paragraph until any check valve having P/N CAR400 is replaced with a check valve having P/N CAR401. If any check valve having P/N CAR400 is replaced by a check valve having P/N CAR401: Before further flight after such replacement, do the actions specified in paragraph (h) of this AD, to determine if all three hydraulic systems are equipped with check valves having P/N CAR401. If check valves having P/N CAR401 are installed on all three hydraulic systems: Before further flight, do the actions specified in paragraphs (h)(1) and (i) of this AD.

(i) Retained Repetitive Inspection Program and Corrective Actions, With No Changes

This paragraph restates the requirements of paragraph (i) of AD 2013-25-08, Amendment 39-17704 (78 FR 78694, December 27, 2013), with no changes. Within 900 flight hours after accomplishment of paragraph (h)(1) of this AD, do the inspection program (detailed inspection for red mark presence and alignment integrity of the check valve and manifold, a detailed inspection for traces of seepage or black deposits, and an inspection for proper torque) on the green, yellow, and blue system check valves, and do all applicable corrective actions, in accordance with the Accomplishment Instructions of Airbus Service Bulletin A330-29-3111, Revision 02, dated June 23, 2011 (for Model A330-200, -200F, and -300 series airplanes); or Airbus Service Bulletin A340-29-4086, Revision 02, dated June 23, 2011 (for Model A340-200 and -300 series airplanes). Do all applicable corrective actions before further flight. Repeat the inspection program thereafter at intervals not to exceed 900 flight hours. Accomplishment of the actions required by this paragraph terminates the requirements specified in paragraphs (g)(1)(i), (g)(2)(ii), and (g)(2)(iii) of this AD.

(j) Retained Repetitive Inspection for Certain Airplanes, With No Changes

This paragraph restates the requirements of paragraph (j) of AD 2013-25-08, Amendment 39-17704 (78 FR 78694, December 27, 2013), with no changes. For airplanes equipped with check valves having P/N CAR401 and on which Airbus Modification 201384 has been embodied during production, or on which Airbus Service Bulletin A330-29-3119 (for Model A330-200, -200F, and -300 series airplanes); or Airbus Service Bulletin A340-29-4091 (for Model A340-200 and -300 series airplanes) has been embodied in service: Within 1,000 flight hours after January 31, 2014 (the effective date of AD 2013-25-08, Amendment 39-17704 (78 FR 78694, December 27, 2013)), do a general visual inspection of the green, yellow, and blue high pressure manifolds and check valves having P/N CAR401 for any sign of rotation of the check valve head, and for any signs of hydraulic fluid leakage or seepage (including black deposits), in accordance with the instructions of Airbus Alert Operators Transmission A29L001-12, dated October 11, 2012. Repeat the inspection thereafter at interval not to exceed 900 flight hours.

(k) Retained Corrective Action for Certain Airplanes, With No Changes

This paragraph restates the requirements of paragraph (k) of AD 2013-25-08, Amendment 39-17704 (78 FR 78694, December 27, 2013), with no changes. If, during any inspection required by paragraph (j) of this AD, any sign of rotation of the check valve head is found, or any sign of hydraulic fluid leakage or seepage (including black deposits) is found: Before further flight, do all applicable corrective actions, in accordance with the instructions of Airbus Alert Operators Transmission A29L001-12, dated October 11, 2012.

(l) Retained Provisions Regarding Terminating Action, With No Changes

This paragraph restates the provisions of paragraph (l) of AD 2013-25-08, Amendment 39-17704 (78 FR 78694, December 27, 2013), with no changes. Accomplishment of the corrective actions required by this AD does not constitute terminating action for the repetitive inspections required by this AD.

(m) Retained Replacement Check Valve Torque Value, With No Changes

This paragraph restates the requirements of paragraph (m) of AD 2013-25-08, Amendment 39-17704 (78 FR 78694, December 27, 2013), with no changes. As of January 31, 2014 (the effective date of AD 2013-25-08, Amendment 39-17704 (78 FR 78694, December 27, 2013)), at each replacement of a check valve with a check valve having P/N CAR401, apply a torque of 141 to 143 newton meter (N.m) (103.98 to 105.45 pounds-foot (lbf.ft)) during installation.

(n) Retained Credit for Previous Actions, With No Changes

This paragraph restates the provisions of paragraph (n) of AD 2013-25-08, Amendment 39-17704 (78 FR 78694, December 27, 2013), with no changes.

(1) This paragraph provides credit for actions required by paragraph (g)(2)(i) of this AD, if those actions were performed before December 14, 2009 (the effective date of AD 2009-24-09, Amendment 39-16068 (74 FR 62208, November 27, 2009)), using the applicable service information specified in paragraphs (n)(1)(i) and (n)(1)(ii) of this AD.

(i) Airbus AOT A330-29A3111, dated September 2, 2009 (for Model A330-200 and -300 series airplanes), which is not incorporated by reference in this AD.

(ii) Airbus AOT A340-29A4086, dated September 2, 2009 (for Model A340-200 and -300 series airplanes), which is not incorporated by reference in this AD.

(2) This paragraph provides credit for actions required by paragraph (h) of this AD, if those actions were performed before January 31, 2014 (the effective date of AD 2013-25-08, Amendment 39-17704 (78 FR 78694, December 27, 2013)) using the applicable service information specified in paragraphs (n)(2)(i) through (n)(2)(iv) of this AD.

(i) Airbus AOT A330-29A3111, dated September 2, 2009 (for Model A330-200 and -300 series airplanes), which is not incorporated by reference in this AD.

(ii) Airbus AOT A330-29A3111, Revision 1, dated October 8, 2009 (for Model A330-200 and -300 series airplanes).

(iii) Airbus AOT A340-29A4086, dated September 2, 2009, (for Model A340-200 and -300 series airplanes), which is not incorporated by reference in this AD.

(iv) Airbus AOT A340-29A4086, Revision 1, dated October 8, 2009 (for Model A340-200 and -300 series airplanes).

(o) Retained Provisions for Reporting, With No Changes

This paragraph restates the provisions of paragraph (o) of AD 2013-25-08, Amendment 39-17704 (78 FR 78694, December 27, 2013), with no changes. Although the service information specified in paragraphs (o)(1) through (o)(5) of this AD specifies to submit certain information to the manufacturer, this AD does not include that requirement.

(1) Airbus Alert Operators Transmission A29L001-12, dated October 11, 2012.

(2) Airbus Mandatory Service Bulletin A330-29-3111, Revision 02, dated June 23, 2011.

(3) Airbus Mandatory Service Bulletin A340-29-4086, Revision 02, dated June 23, 2011.

(4) Airbus AOT A330-29A3111, Revision 1, dated October 8, 2009.

(5) Airbus AOT A340-29A4086, Revision 1, dated October 8, 2009.

(p) New Requirement of This AD: Modify Hydraulic Systems

Within 36 months after the effective date of this AD, modify the green, blue, and yellow high pressure hydraulic manifolds by replacing each check valve having P/N CAR401 with an improved check valve having P/N CAR402, in accordance with the Accomplishment Instructions of Airbus Service Bulletin A330-29-3125, Revision 01, including Appendixes 01 and 02, dated July 30, 2015; or Airbus Service Bulletin A340-29-4096, Revision 01, including Appendixes 01 and 02, dated July 30, 2015; as applicable.

(q) New Requirement of This AD: Repetitive Inspection Terminating Action

Modification of an airplane, as required by paragraph (p) of this AD, constitutes terminating action for the repetitive inspections required by this AD.

(r) New Requirement of This AD: Parts Installation Limitations

(1) For an airplane that, as of the effective date of this AD, has a check valve having P/N CAR401 installed, after modification of an airplane as required by paragraph (p) of this AD, no person may install a check valve having P/N CAR401, on that airplane.

(2) For an airplane that does not have a check valve having P/N CAR401 installed, as of the effective date of this AD, no person may install a check valve having P/N CAR401, on that airplane.

(s) Credit for Previous Actions

This paragraph provides credit for actions required by paragraph (p) of this AD, if those actions were performed before the effective date of this AD using Airbus Service Bulletin A330-29-3125, dated August 8, 2014; or Airbus Service Bulletin A340-29-4096, dated August 8, 2014; as applicable; which are not incorporated by reference in this AD.

(t) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOC ANM-116-14-180 R1, dated February 21, 2014, is approved as an AMOC for the corresponding provisions of this AD.

(iii) AMOC ANM-116-14-429, dated September 25, 2014, is not approved as an AMOC for the corresponding provisions of this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(u) Related Information

(1) Refer to Mandatory Continuing Airworthiness Information (MCAI) EASA Airworthiness Directive 2015-0009, dated January 16, 2015, for related information. This MCAI may be found in the AD docket on the Internet at http://www.regulations.gov by searching for and locating Docket No. FAA-2016-3701.

(2) Service information identified in this AD that is not incorporated by reference may be obtained at Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(3) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on February 15, 2016.
Michael Kaszycki,
Acting Manager, Transport Airplane Directorate, Aircraft Certification Service.

[FR Doc. 2016-03699 Filed 2-24-16; 8:45 am]

BILLING CODE 4910-13-P